NATIONAL ENDOWMENT FOR THE ARTS

RIN 3135AA22

Privacy Act of 1974: Republication of Notice of Systems of Records

AGENCY: National Endowment for the Arts.

ACTION: Notice of amendment to systems of records, proposed systems of records, and new routine uses.

SUMMARY: The National Endowment for the Arts (Endowment) is publishing a notice of an amendment to its systems of records, as required by the Privacy Act of 1974, 5 U.S.C. 552a(e)(4).

DATES: The proposed amendment to the Endowment's systems of records will become effective 30 days from the date of this publication in the Federal Register.

ADDRESSES: Karen Elias; Acting General Counsel; National Endowment for the Arts; 1100 Pennsylvania Avenue, NW.; Room 518; Washington, DC 20506; telefax at (202) 682-5572 or by electronic mail at eliask@arts.endow.gov.

FOR FURTHER INFORMATION CONTACT: Karen Elias, (202) 682-5418.

SUPPLEMENTARY INFORMATION: The Endowment is today making an amendment to its notice of the existence and character of its systems of records, which was published in the Federal Register on June 30, 2008 (73 FR 36908) in accordance with 5 U.S.C. 552a(e)(4), by adding one general routine use.

Statement of General Routine Uses

12. To appropriate agencies, entities, and persons when (1) The Endowment suspects or has confirmed that the security or confidentiality of information in the system of records has been compromised; (2) the Endowment has determined that as a result of the suspected or confirmed compromise there is a risk of harm to economic or property interests, identity theft or fraud, or harm to the security or integrity of this system or other systems or programs (whether maintained by the Endowment or another agency or entity) that rely upon the compromised information; and (3) the disclosure made to such agencies, entities, and persons is reasonably necessary to assist in connection with the Endowment's efforts to respond to the suspected or confirmed compromise and prevent, minimize, or remedy such harm.

Kathleen Edwards,
Director, Administrative Services, National Endowment for the Arts.

[FR Doc. E8-24324 Filed 10-10-08; 8:45 am]

BILLING CODE 7537-01-P